DEPARTMENT OF THE INTERIOR

Bureau of Land Management

Notice of Public Meeting: Resource Advisory Council to the Boise District, Bureau of Land Management, U.S. Department of the Interior

AGENCY: Bureau of Land Management, U.S. Department of the Interior.

ACTION: Notice of public meeting.

SUMMARY: In accordance with the Federal Land Policy and Management Act (FLPMA) and the Federal Advisory Committee Act of 1972 (FACA), the U.S. Department of the Interior, Bureau of Land Management (BLM) Boise District Resource Advisory Council (RAC), will meet as indicated below.

DATES: The meeting will be held April 19, 2005, beginning at 9 a.m. and adjourning at 4 p.m. at the BLM Boise District Office, Snake River Conference Room, located at 3948 Development Ave., Boise, ID. Public comment periods will be held after topics on the agenda.

FOR FURTHER INFORMATION CONTACT: MJ Byrne, Public Affairs Officer and RAC Coordinator, BLM Boise District, 3948 Development Ave., Boise, ID 83705, Telephone (208) 384-3393.

SUPPLEMENTARY INFORMATION: The 15-member Council advises the Secretary of the Interior, through the BLM, on a variety of planning and management issues associated with public land management in southwestern Idaho. At this meeting, the following actions will occur/topics will be discussed:

• Hot Topics;

• Presentation and discussion on Idaho's Comprehensive Wildlife Conservation Strategy;

• Three Field Office Managers and District Fire Manager provide updates on current issues and planned activities in their Field Offices and the District;

• Subcommittee Reports:

○ Rangeland Standards and Guidelines;

○ Briefing on current conditions and actions being taken and planned in response to the drought,

○ Briefing on the outlook for Grasshopper and Mormon Cricket infestations this spring and summer, and what actions are being taken and are planned to help minimize and mitigate their impact to public lands,

○ Update on the status of the new grazing regulations

○ Off-Highway Vehicles (OHV) and Transportation Management;

○ Briefing on what is being planned by Idaho BLM for OHV Public Outreach,

○ Sage Grouse Habitat Management;

○ Update on status of Idaho's Sage Grouse Habitat Conservation Strategy, and Map of Wind Energy Projects across Idaho, and;

○ Resource Management Plans;

○ Presentation of draft alternatives for the Snake River Birds of Prey National Conservation Area Resource Management Plan. RAC review and feedback.

Agenda items may change due to changing circumstances. All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below. Expedited publication is requested to give the public adequate notice.

Dated: March 24, 2005.
James H. Johansen,
Acting District Manager.

[FR Doc. 05-6256 Filed 3-29-05; 8:45 am]

BILLING CODE 4310-GG-P